DEPARTMENT OF AGRICULTURE

Animal and Plant Health Inspection Service

[Docket No. 03-034-1]

Ivy Gourd; Availability of an Environmental Assessment

AGENCY: Animal and Plant Health Inspection Service, USDA.

ACTION: Notice.

SUMMARY: We are advising the public that the Animal and Plant Health Inspection Service has prepared an environmental assessment relative to a proposed field release of a nonindigenous leaf-mining weevil, Acythopeus cocciniae, into Guam and Saipan for the biological control of ivy gourd (Coccinia grandis). The environmental assessment documents our review and analysis of environmental impacts associated with widespread release of this agent. We are making the environmental assessment available to the public for review and comment.

DATES: We will consider all comments that we receive on or before May 8, 2003.

ADDRESSES: You may submit comments by postal mail/commercial delivery or by e-mail. If you use postal mail/commercial delivery, please send four copies of your comment (an original and three copies) to: Docket No. 03-034-1, Regulatory Analysis and Development, PPD, APHIS, Station 3C71, 4700 River Road Unit 118, Riverdale, MD 20737-1238. Please state that your comment refers to Docket No. 03-034-1. If you use e-mail, address your comment to regulations@aphis.usda.gov. Your comment must be contained in the body of your message; do not send attached files. Please include your name and address in your message and “Docket No. 03-034-1” in the subject line.

You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Tracy A. Horner, Ecologist, Environmental Services, PPD, APHIS, 4700 River Road Unit 149, Riverdale, MD 20737-1237; (301) 734-5213.

SUPPLEMENTARY INFORMATION:

Background

The Animal and Plant Health Inspection Service (APHIS) is considering several applications for permits to release the nonindigenous leaf-mining weevil Acythopeus cocciniae in order to reduce the severity and extent of ivy gourd (Coccinia grandis) infestations in Guam and Saipan.

Ivy gourd is native to Africa, Asia, Fiji, and northern Australia. This invasive weed is a rapidly growing, climbing or trailing vine that forms thick mats, overgrowing trees and other vegetation, walls, fences, and utility poles. Ivy gourd also serves as a host for numerous pests of cucurbitaceous crops, including black leaf-footed bug (Leptoglossus australis), leafminers (Liriomyza spp.), melon aphid (Aphis gossypii), melon fly (Bactrocera cucurbitae), pumpkin caterpillar (Diaphania indica), red pumpkin beetle (Aulacophora foveicollis), and whiteflies (Bemisia spp.).

Ivy gourd has been detected in the United States in Guam, Hawaii, and Saipan. In July 1999, we prepared an environmental assessment (EA) that examined the potential release of A. cocciniae and another weevil of the same genus, A. burkhartorum, into the environment for use as biological control agents to reduce the severity and extent of ivy gourd infestations in the State of Hawaii. APHIS has subsequently received permit applications for additional releases of A. cocciniae beyond the area considered in the 1999 EA. The applicants propose to release A. cocciniae in Guam and Saipan to reduce the severity and extent of ivy gourd infestation on those islands.

A. cocciniae is native to Africa. Adults live up to 200 days and feed on the leaves of the ivy gourd, creating numerous holes in the lamina. Eggs are laid singly by insertion into the lamina of the leaves. The eggs hatch in about 8 days, and the larvae mine the leaves for 9 to 10 days thereafter. Pupation takes place within the mine and lasts for 15 days. Adult feeding and larval mining can cause drying of the leaves and eventual defoliation.

APHIS” review and analysis of the proposed action and its alternatives are documented in detail in an EA entitled, “Field Release of Acythopeus cocciniae (Coleoptera: Curculionidae), a nonindigenous leaf-mining weevil for control of ivy gourd, Coccinia grandis (Cucurbitaceae), in Guam and Saipan” (February 2003). We are making the EA available to the public for review and comment. We will consider all comments that we receive on or before the date listed under the heading DATES at the beginning of this notice.

The EA may be viewed on the Internet at http://www.aphis.usda.gov/ppq/ by following the link for “Document/Forms Retrieval System” then clicking on the triangle beside “6—Permits—Environmental Assessments,” and selecting document number 0034. You may request paper copies of the EA by calling or writing to the person listed under FOR FURTHER INFORMATION CONTACT. Please refer to the title of the EA when requesting copies. The EA is also available for review in our reading room (information on the location and hours of the reading room is listed under the heading ADDRESSES at the beginning of this notice).

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 2nd day of April 2003 .
Peter Fernandez,
Acting Administrator, Animal and Plant Health Inspection Service.

[FR Doc. 03-8518 Filed 4-7-03; 8:45 am]

BILLING CODE 3410-34-P